SUSQUEHANNA RIVER BASIN COMMISSION

Commission Meeting; Correction

AGENCY: Susquehanna River Basin Commission.

ACTION: Notice; correction.

SUMMARY: The Susquehanna River Basin Commission published a document in the Federal Register of August 10, 2016 (81 FR 52946), concerning its regular business meeting on September 8, 2016, in Cooperstown, New York. The document was revised to update agenda item #6 and add an additional agenda item, to be addressed at the business meeting, contained below in the Supplementary Information section of this notice.

DATES: The meeting will be held on Thursday, September 8, 2016, at 9 a.m.

ADDRESSES: The meeting will be held at The Otesaga Resort Hotel, Ballroom, 60 Lake Street, Cooperstown, NY 13326.

FOR FURTHER INFORMATION CONTACT: Jason E. Oyler, General Counsel, telephone: (717) 238-0423, ext. 1312; fax: (717) 238-2436.

SUPPLEMENTARY INFORMATION: The business meeting will include actions or presentations on the following items: (1) Informational presentation of interest to the Upper Susquehanna Subbasin area; (2) proposed rescission of the Commission's Information Technology Services Fee Policy; (3) ratification/approval of contracts/grants; (4) release of proposed rulemaking for public comment; (5) notice for Montage Mountain Resorts, LP project sponsor to appear and show cause before the Commission; and (6) Regulatory Program projects, including requests to extend emergency certificates for Furman Foods, Inc. and Standing Stone Golf Club. The business meeting may also include action on regulatory compliance matters for Panda Liberty LLC, Panda Patriot LLC, and Hummel Station LLC.

Projects and proposed rescission of the Commission's Information Technology Services Fee Policy listed for Commission action are those that were the subject of a public hearing conducted by the Commission on August 4, 2016, and identified in the notice for such hearing, which was published in 81 FR 44407, July 7, 2016.

The public is invited to attend the Commission's business meeting. Comments on the Regulatory Program projects and proposed rescission of the Commission's Information Technology Services Fee Policy were subject to a deadline of August 15, 2016. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before September 2, 2016. Comments will not be accepted at the business meeting noticed herein.

Authority: Pub. L. 91-575, 84 Stat. 1509 et seq., 18 CFR parts 806, 807, and 808.

Dated: August 12, 2016.
Stephanie L. Richardson,
Secretary to the Commission.

[FR Doc. 2016-19649 Filed 8-16-16; 8:45 am]

BILLING CODE 7040-01-P